COMMITTEE FOR PURCHASE FROM PEOPLE WHO ARE BLIND OR SEVERELY DISABLED

Procurement List; Proposed Additions

AGENCY: Committee for Purchase From People Who Are Blind or Severely Disabled.

ACTION: Proposed additions to the procurement list.

SUMMARY: The Committee is proposing to add to the Procurement List products and services to be furnished by nonprofit agencies employing persons who are blind or have other severe disabilities.

DATES: Comments Must Be Received on or Before: July 20, 2009.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 7510-00-NIB-0877—Binder, 3 D-Ring, 100% Recycled 1” Black

NSN: 7510-00-NIB-0879—Binder, 3 D-Ring, 100% Recycled 2” Black

NSN: 7510-00-NIB-0880—Binder, 3 D-Ring, 100% Recycled 3” Black

NSN: 7510-00-NIB-0885—Binder, 3 D-Ring, 100% Recycled 1” Dark Green

NSN: 7510-00-NIB-0887—Binder, 3 D-Ring, 100% Recycled 2” Dark Green

NSN: 7510-00-NIB-0888—Binder, 3 D-Ring, 100% Recycled 3” Dark Green

Coverage: A-List for the total Government requirement as aggregated by the General Services Administration.

NSN: 7510-00-NIB-0878—Binder, 3 D-Ring, 100% Recycled 1.5” Black

NSN: 7510-00-NIB-0881—Binder, 3 D-Ring, 100% Recycled 1” Blue

NSN: 7510-00-NIB-0882—Binder, 3 D-Ring, 100% Recycled 1.5” Blue

NSN: 7510-00-NIB-0883—Binder, 3 D-Ring, 100% Recycled 2” Blue

NSN: 7510-00-NIB-0884—Binder, 3 D-Ring, 100% Recycled 3” Blue

NSN: 7510-00-NIB-0886—Binder, 3 D-Ring, 100% Recycled 1.5” Dark Green

Coverage: B-List for the broad Government requirement as aggregated by the General Services Administration.

NPA: South Texas Lighthouse for the Blind, Corpus Christi, TX

Contracting Activity: Federal Acquisition Service, GSA/FSS OFC SUP CTR—Paper Products, New York, NY.

NSN: 6545-00-NIB-0088—Kit, Ambulance

NSN: 6545-00-NIB-0091—Accelerate-OR JB Kit

NSN: 6545-00-NIB-0090—Accelerate-OR A Kit

NSN: 6545-00-NIB-0089—Accelerate-OR M Kit

NSN: 6545-00-NIB-0074—Accelerate-OR R Kit

NPA: Bosma Industries for the Blind, Inc., Indianapolis, IN.

Contracting Activity: Veterans Affairs, Department of, NAC, Hines, IL.

Coverage: C-List for 100% of the requirement for the Department of Veterans Affairs.

NSN: 7520-00-NIB-2033—PEN, RETRACTABLE, BIODEGRADABLE

NSN: 7520-00-NIB-2034—PEN, RETRACTABLE, BIODEGRADABLE

NSN: 7520-00-NIB-2035—PEN, RETRACTABLE, BIODEGRADABLE

NSN: 7520-00-NIB-2036—PEN, RETRACTABLE, BIODEGRADABLE

NSN: 7520-00-NIB-2037—PEN, RETRACTABLE, BIODEGRADABLE with GRIP

NSN: 7520-00-NIB-2038—PEN, RETRACTABLE, BIODEGRADABLE with GRIP

NSN: 7520-00-NIB-2039—PEN, RETRACTABLE, BIODEGRADABLE with GRIP

NSN: 7520-00-NIB-2040—PEN, RETRACTABLE, BIODEGRADABLE with GRIP

NPA: West Texas Lighthouse for the Blind, San Angelo, TX.

Contracting Activity: Federal Acquisition Service, GSA/FSS OFC SUP CTR—Paper Products, New York, NY.

Coverage: A-List for the total Government requirement as aggregated by the General Services Administration.

NSN: 7520-00-NIB-2021—Pencil, Mechanical, .5 MM HB Lead

NSN: 7520-00-NIB-2022—Pencil, Mechanical, .7 MM HB Lead

NSN: 7510-00-NIB-0875—Refill, 12 Lead Cartridge, 0.5 mm HB

NSN: 7510-00-NIB-0876—Refill, 12 Lead Cartridge, 0.7 mm HB

NPA: San Antonio Lighthouse for the Blind, San Antonio, TX.

Contracting Activity: Federal Acquisition Service, GSA/FSS OFC SUP CTR—Paper Products.

Coverage: B-List for the broad Government requirement as aggregated by the General Services Administration.

NSN: 7510-00-L98-0032—Tape, Pressure Sensitive, Package Sealing 110 yd

NSN: 7510-00-L98-0037—Tape, Pressure Sensitive, Package Sealing 110 yd

NSN: 7510-00-L98-0033—Tape, Pressure Sensitive, Package Sealing 110 yd

NPA: Cincinnati Association for the Blind, Cincinnati, OH.

Contracting Activity: Defense Logistics Agency, Defense Distribution Center, New Cumberland, PA.

Coverage: C-List for the total Defense Logistics Agency requirement.

NSN: 891500NSH0145—Diced Green Peppers

NSN: 891500NSH0147—Cole Slaw with Carrots

NSN: 891500NSH0146—Sliced Yellow Onions

NPA: Employment Solutions, Inc., Lexington, KY.

Contracting Activity: Federal Prison System, Lexington, FMC, Lexington, KY.

Coverage: C-List for the total Federal Prison System requirement.

Services

Service Type/Location:

Acquisition Support Services, DCMA Headquarters, 6350 Walker Lane, Alexandria, VA.

NPA: Virginia Industries for the Blind, Charlottesville, VA.

Contracting Activity: Defense Contract Management Agency (DCMA), Alexandria, VA.

Service Type/Location:

Laundry Services, Naval Hospital & Dental Clinic, 100 Bresster Blvd, Camp Lejeune, NC, Dental Clinic, Bldg 4389, Cherry Point, NC.

NPA: Chesapeake Service Systems, Inc., Chesapeake, VA.

Contracting Activity: Dept of the Navy, FISC Norfolk, VA.

Service Type/Location:

Mess Attendant Services, Patterson Dining Facility, Building 403, Dover Air Force Base, DE.

NPA: Opportunity Center, Incorporated, Wilmington, DE.

Contracting Activity: Dept of the Air Force, FA4497 436 CONS LGC, Dover AFB, DE.

Service Type/Location:

Ground Maintenance: CG Island, Yerba Buena Island, Coast Guard Island, MLCPAC, Building 54C, Alameda, CA. Sector San Francisco, Yerba Buena Island, San Francisco, CA.

Senior Officer's Quarters, Yerba Buena Island, San Francisco, CA.

NPA: Rubicon Programs, Inc., Richmond, CA.

Contracting Activity: U.S. Coast Guard, MLC Pacific (VPL), Alameda, CA.

Service Type/Location:

Dining Facility Attendant Service: Fort Bragg, NC.

NPA: Employment Source, Inc., Fayetteville, NC.

Contracting Activity: Dept of the Army, XR W6BB FT BRAGG, NC.

Service Type/Location:

Grounds Maintenance Services: Ellington Field, 14555 Scholl Street Houston, TX, US Army Reserve Center at Perimeter Park, 7077 Perimeter Park Dr, Houston, TX.

NPA: On Our Own Services, Inc., Houston, TX.

Contracting Activity: Dept of the Army, XR W6BB ACA Presidio of Monterey, CA.

Service Type/Location:

Janitorial Services: Coast Guard Island, Building 54C, Alameda, CA.

NPA: Calidad Industries, Inc., Oakland, CA.

Contracting Activity: U.S. Coast Guard, MLC Pacific (VPL), Alameda, CA.

Service Type/Location:

Switchboard Services: Minot Air Force Base, 211 Missile Ave, Minot AFB, ND.

NPA: MVW Services, Inc., Minot, ND.

Contracting Activity: Dept of the Air Force, FA4528 5 CONS LGC, Minot AFB, ND.

Service Type/Location:

Secure Document Destruction: Federal Law Enforcement Training Center, 1300 W. Richey Ave., Artesia, NM.

NPA: Adelante Development Center, Inc., Albuquerque, NM.

Contracting Activity: Federal Law Enforcement Training Center, Department of Homeland Security, Artesia, NM.

Service Type/Location:

Facility Operations & Maintenance: Directorate of Public Works, 5418 South Scott Plaza, Fort Dix, NJ.

Barnes Building, 495 Summer Street, Boston, MA.

NPA: PRIDE Industries, Roseville, CA.

Contracting Activity: Dept of the Army, XR W6BA ACA Army Reserve Cont Ctr, Fort Dix, NJ.

Service Type/Location:

Laundry Service: Elwyn, 111 Elwyn Road, Elwyn, PA (NPA Facility).

NPA: Elwyn, Inc., Aston, PA.

Contracting Activity: Department of Veterans Affairs, Veterans Administration Medical Center, Wilmington, DE.

Service Type/Location:

Custodial Services: York VA Outpatient Clinic, 2251 Eastern Boulevard, York, PA.

NPA: Goodwill Services, Inc., Harrisburg, PA.

Contracting Activity: Department of Veterans Affairs, Lebanon, PA.

Service Type/Location:

Housekeeping Services: Fort Custer Education Center, 2501 26th Street, Augusta, MI.

NPA: Navigations, Inc., Battle Creek, MI.

Contracting Activity: Dept of the Army, XRAW8AC MIARNG Element, JF HQ, Lansing, MI.

Service Type/Location:

Food Service Attendant: Joint Dining Facility, Selfridge Air National Guard, Selfridge ANG Base, MI.

NPA: New Horizons Rehabilitation Services, Inc., Auburn Hills, MI.

Contracting Activity: Dept of the Army, XRA W39L USA NG Readiness Center, Selfridge ANGB, MI.

Service Type/Location:

Warehouse Services: Navy Regional Supply Officer Oceana, 983 D Avenue, Virginia Beach, VA.

Navy Regional Supply Office, 452 Warehouse Street, Norfolk, VA.

NPA: Professional Contract Services, Inc., Austin, TX.

Contracting Activity: Dept of the Navy, FISC Norfolk, Norfolk, VA.

Patricia Briscoe,
Deputy Director, Business Operations.

[FR Doc. E9-14387 Filed 6-18-09; 8:45 am]

BILLING CODE 6353-01-P